ENVIRONMENTAL PROTECTION AGENCY

[FRL-8222-2]

Meeting of the Local Government Advisory Committee

AGENCY: Environmental Protection Agency.

ACTION: Notice.

SUMMARY: The Local Government Advisory Committee and the Small Community Advisory Subcommittee (SCAS), and workgroups for Water, Indicators, Regulations and Solid Waste/Environmental Reclamation will meet on October 31-November 2, 2006 in Atlanta, Georgia. On October 31 and November 2 the meetings will be at the Hilton Atlanta Airport Hotel. On November 1, the meeting will be at the Serenbe Southern Country Inn. The Committee will be discussing its Strategic Action Agenda, new environmental approaches in developing communities, the 2008 Clean Watersheds Needs Survey, cooperative conservation, asset management approaches for water-related infrastructure and other key regional specific initiatives.

The SCAS will meet at 10 a.m. on Tuesday, October 31, 2006, to discuss water-related infrastructure, preferred EPA approaches to implementing regulations with small communities, storm water and drinking water issues, as well as the Clean Watersheds Needs Survey. The Indicators and Regulatory Workgroups will meet jointly from 11 a.m. to noon on October 31, and the Water and Solid Waste and Environmental Reclamation Workgroups will meet in separate sessions also on October 31.

The Committee will hear comments from the public between 3:30 p.m.-4 p.m. on Tuesday, October 31. Each individual or organization wishing to address the LGAC meeting will be allowed a maximum of five minutes to present their point of view. Please contact the Designated Federal Officer (DFO) at the number listed below to schedule agenda time. Time will be allotted on a first come, first serve basis, and the total period for comments may be extended, if the number of requests for appearances require it.

This is an open meeting and all interested persons are invited to attend. LGAC meeting minutes and Subcommittee summary notes will be available after the meeting and can be obtained by written request to the DFO. Members of the public are requested to call the DFO at the number listed below if planning to attend so that arrangements can be made to comfortably accommodate attendees as much as possible. Seating will be on a first come, first serve basis.

DATES: The Local Government Advisory Committee plenary session will be held from 9 to 10 a.m. on Tuesday, October 31 and reconvene at 2:30 on that day in Chattahoochee Salon AB conference room. The full Committee will reconvene again from 10 a.m. to 3 p.m. on November 1 and from 9 to 11:45 a.m. on November 2, 2006.

ADDRESSES: The LGAC meeting will be held at the Hilton Atlanta Airport Hotel, located at 1031 Virginia Avenue, Atlanta, Georgia, 30354 on Tuesday, October 31 and Thursday, November 2 in the Chattahoochee Salon AB conference room. On Wednesday, November 1, the meeting will be at the Serenbe Southern Country Inn at 10950 Hutchinson Ferry Road, Palmetto, Fulton County, Georgia.

Additional information can be obtained by writing the DFO at 1200 Pennsylvania Avenue, NW. (1301A), Washington, DC 20460.

FOR FURTHER INFORMATION CONTACT: Contact Roy Simon, DFO for the Local Government Advisory Committee (LGAC) at (202) 564-3868.

Information on Services for the Disability: For information on access or services for individuals with disability, please contact Roy Simon at (202) 564-3868. To request accommodation of a disability, please contact Roy Simon, preferably at least 10 days prior to the meeting, to give EPA as much time as possible to process your request.

Dated: September 13, 2006.
Roy A. Simon,
Designated Federal Officer, Local Government Advisory Committee.

[FR Doc. 06-8056 Filed 9-21-06; 8:45 am]

BILLING CODE 6560-50-P